DEPARTMENT OF TRANSPORTATION

Federal Railroad Administration

[Docket Number FRA-1999-6254]

Petition for Waiver of Compliance

Under part 211 of Title 49 Code of Federal Regulations (CFR), this document provides the public notice that on May 10, 2018, the Santa Clara Valley Transportation Authority (SCVTA) petitioned the Federal Railroad Administration (FRA) for a waiver of compliance from certain provisions of the Federal railroad safety regulations. FRA assigned the petition docket number FRA-1999-6254.

In its petition, SCVTA seeks to extend the terms and conditions of its Shared Use waiver regarding operations in its Vasona Corridor, originally granted by FRA's Railroad Safety Board (Board) on September 26, 2005; modified in 2008; and extended in 2011 and 2013. Specifically, this Shared Use waiver is for the continued operation of the SCVTA rail fixed guideway transit system in the Vasona Corridor. SCVTA shares this corridor with Union Pacific Railroad (UP) running parallel for 5 miles of the existing 15-mile long UP Vasona Industrial Lead and serves the cities of southwest San Jose, CA, and Campbell, CA. SCVTA and the parallel UP line share grade crossings and the corridor, but have no other connection. Because SCVTA owns this 5-mile-long portion of the shared corridor, SCVTA and UP have executed an Operations and Maintenance Agreement, which includes an exclusive operating easement, allowing UP to fulfill its obligations as a common carrier of freight by continuing its existing freight operations within the purchased corridor. This agreement requires SCVTA to inspect, maintain, and repair all tracks, signal systems and automatic warning devices along the freight track within that portion of the corridor shared with SCVTA tracks.

SCVTA continues to seek partial relief from 49 CFR part 220, Railroad Communications, for SCVTA employees, except its dispatchers; and from 49 CFR part 225, Railroad Accidents/Incident Reports, to waive employee injury reporting requirements only. SCVTA continues to seek full relief from some parts of the regulations (e.g., 49 CFR parts 217, 219, 221, 229, 238, and 239) as well.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 9, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-11079 Filed 5-23-18; 8:45 am]

BILLING CODE 4910-06-P